COMMITTEE FOR THE IMPLEMENTATION OF TEXTILE AGREEMENTS

Designation Under the Textile and Apparel Commercial Availability Provisions of the African Growth and Opportunity Act (AGOA)

March 21, 2006.

AGENCY: The Committee for the Implementation of Textile Agreements (CITA)

ACTION: Designation.

EFFECTIVE DATE: March 27, 2006.

SUMMARY: : The Committee for the Implementation of Textile Agreements (CITA) has determined that certain, 100 percent nylon 66, fully drawn flat filament yarn, of yarn count 156 decitex, comprised of 51 trilobal filaments and 20 round filaments, classified in subheading 5402.41.9040 of the Harmonized Tariff Schedule of the United States (HTSUS), for use in apparel articles classified under HTSUS subheadings 6108.22.9020 and 6109.90.1065, cannot be supplied by the domestic industry in commercial quantities in a timely manner. CITA hereby designates such apparel articles of such yarn, that are cut from fabric formed, or knit-to-shape, and sewn or otherwise assembled in one or more eligible AGOA beneficiary countries as eligible to enter free of quotas and duties under HTSUS subheading 9819.11.24.

FOR FURTHER INFORMATION CONTACT: Anna Flaaten, Office of Textiles and Apparel, U.S. Department of Commerce, (202) 482 3400.

SUPPLEMENTARY INFORMATION:

Authority: Authority: Section 112(b)(5)(B) of the AGOA; Presidential Proclamation 7350 of October 2, 2000; Section 1 of Executive Order No. 13191 of January 17, 2001.

Background

The AGOA provides for quota- and duty-free treatment for qualifying textile and apparel products. Such treatment is generally limited to products manufactured from yarns and fabrics formed in the United States or a beneficiary country. The AGOA also provides for quota- and duty-free treatment for apparel articles that are both cut (or knit-to-shape) and sewn or otherwise assembled in one or more beneficiary countries from fabric or yarn that is not formed in the United States, if it has been determined that such fabric or yarn cannot be supplied by the domestic industry in commercial quantities in a timely manner. In Executive Order No. 13191, the President delegated to CITA the authority to determine whether yarns or fabrics cannot be supplied by the domestic industry in commercial quantities in a timely manner under the AGOA and directed CITA to establish procedures to ensure appropriate public participation in any such determination. On March 6, 2001, CITA published procedures that it will follow in considering requests. (66 FR 13502).

On November 9, 2005 the Chairman of CITA received a petition from Shibani Inwear alleging that certain 100 percent nylon 66, fully drawn flat filament yarn, of yarn count 156 decitex, comprised of 51 trilobal filaments and 20 round filaments, classified in HTSUS subheading 5402.41.9040, for use in apparel articles classified under HTSUS subheadings 6108.22.90.20 and 6109.90.10.65, cannot be supplied by the domestic industry in commercial quantities in a timely manner. The petition requested quota- and duty-free treatment under the AGOA for such apparel articles that are both cut from fabric formed, or knit-to-shape, and sewn or otherwise assembled in one or more AGOA beneficiary countries from such yarn.

On November 14, 2005, CITA requested public comments regarding the petition. See Request for Public Comments on Commercial Availability Request under the African Growth and Opportunity Act (AGOA), 70 FR 69524 (November 16, 2005). On November 30, 2005, CITA and the U.S. Trade Representative (USTR) sought the advice of the Industry Trade Advisory Committee for Textiles and Clothing and the Industry Trade Advisory Committee for Distribution Services. On November 30, 2005, CITA and USTR offered to hold consultations with the Committee on Ways and Means of the House of Representatives and the Committee on Finance of the Senate (collectively, the Congressional Committees). On December 21, 2005, the U.S. International Trade Commission provided advice on the petition.

Based on the information and advice received and its understanding of the industry, CITA determined that the yarn set forth in the petition cannot be supplied by the domestic industry in commercial quantities in a timely manner. On January 6, 2006, CITA and USTR submitted a report to the Congressional Committees that set forth the action proposed, the reasons for such action, and advice obtained. A period of 60 calendar days since this report was submitted has expired.

CITA hereby designates apparel articles classified under HTSUS subheadings 6108.22.9020 and 6109.90.1065 that are both cut from fabric formed, or knit-to-shape, and sewn or otherwise assembled in one or more eligible beneficiary sub-Saharan African country from 100 percent nylon 66, fully drawn flat filament yarn, of yarn count 156 decitex, comprised of 51 trilobal filaments and 20 round filaments, classified in HTSUS subheading 5402.41.9040, as eligible to enter free of quotas and duties under HTSUS subheading 9819.11.24, provided all other yarns used in the referenced apparel articles are U.S. formed, subject to the special rules for findings and trimmings, certain interlinings and de minimis fibers and yarns under section 112(d) of the AGOA, and that such articles are imported directly into the customs territory of the United States from an eligible AGOA beneficiary country.

An “eligible beneficiary sub-Saharan African country” means a country which the President has designated as a beneficiary sub-Saharan African country under section 506A of the Trade Act of 1974 (19 U.S.C. 2466a), and which has been the subject of a finding, published in the Federal Register, that the country has satisfied the requirements of section 113 of the AGOA (19 U.S.C. 3722), resulting in the enumeration of such country in U.S. note 1 to subchapter XIX of chapter 98 of the HTSUS.

Philip J. Martello,
Acting Chairman, Committee for the Implementation of Textile Agreements.

[FR Doc.E6-4404 Filed 3-24-06; 8:45 am]

BILLING CODE 3510-DS-S